DEPARTMENT OF TRANSPORTATION

Federal Aviation Administration

14 CFR Part 39

[Docket No. FAA-2006-26570; Directorate Identifier 2006-NE-39-AD; Amendment 39-14931; AD 2007-03-20]

RIN 2120-AA64

Airworthiness Directives; Turbomeca S.A. Makila 1A and 1A1 Turboshaft Engines

AGENCY: Federal Aviation Administration (FAA), Department of Transportation (DOT).

ACTION: Final rule.

SUMMARY: We are adopting a new airworthiness directive (AD) for the products listed above. This AD results from mandatory continuing airworthiness information (MCAI) issued by an aviation authority of another country to identify and correct an unsafe condition on an aviation product. The MCAI describes the unsafe condition as:

The back-up mode can be activated by an electrostatic discharge or by a malfunction of the collective pitch signal. The two engines fitted on the same helicopter can therefore be frozen in this back-up position at 85% N1.

Freezing both engines in the back-up mode can lead to an inability to continue safe flight and forced landing. We are issuing this AD to require actions to correct the unsafe condition on these products.

DATES: This AD becomes effective March 19, 2007. The Director of the Federal Register approved the incorporation by reference of certain publications listed in this AD as of March 19, 2007.

ADDRESSES: You may examine the AD docket on the Internet at http://dms.dot.gov or in person at the Docket Management Facility, U.S. Department of Transportation, 400 Seventh Street, SW., Nassif Building, Room PL-401, Washington, DC.

FOR FURTHER INFORMATION CONTACT: Christopher Spinney, Aerospace Engineer, Engine Certification Office, FAA, Engine & Propeller Directorate, 12 New England Executive Park, Burlington, MA 01803; telephone (781) 238-7175; fax (781) 238-7199.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S. certificated products.

This AD references the MCAI and related service information that we considered in forming the engineering basis to correct the unsafe condition. The AD contains text copied from the MCAI and for this reason might not follow our plain language principles.

Discussion

We issued a notice of proposed rulemaking (NPRM) to amend 14 CFR part 39 to include an AD that would apply to the specified products. That NPRM was published in the Federal Register on December 19, 2006 (71 FR 75896). That NPRM proposed to correct an unsafe condition for the specified products. The MCAI states:

The control system of the engines covered by this Airworthiness Directive includes an electrical back-up mode at 85% N1 (gas generator speed) activated on the detection of certain occurrences affecting engine control. The activation of the back-up mode is irreversible and freezes the engine at 85% N1.

An analysis of reported occurrences in service showed that the back-up mode can be activated by an electrostatic discharge or by a malfunction of the collective pitch signal. The two engines fitted on the same helicopter can therefore be frozen in this back-up position at 85% N1.

The present Airworthiness Directive therefore imposes the application of modification TU241 on the LPG board of the Makila 1A and 1A1 ECU, which reduces the aforementioned risk by changing the conditions in which the engines switch to and are maintained in the 85% NG back-up mode.

Freezing both engines in the back-up mode can lead to an inability to continue safe flight and forced landing.

You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are described in a separate paragraph of the AD, and take precedence over the actions copied from the MCAI.

Differences Between This AD and the Proposed AD

In paragraph (e) of the proposed AD, published December 19, 2006, we state “Unless already done, before January 31, 2007, apply the modification TU 241 by replacing the LPG board of the ECU using Turbomeca Mandatory Service Bulletin No. 298 73 0241, dated April 5, 2006.” Because that compliance date will have past before this AD becomes effective, we have changed paragraph (e) to read, “Unless already done, within 30 days after the effective date of this AD, apply the modification TU 241 by replacing the LPG board of the ECU using Turbomeca Mandatory Service Bulletin No. 298 73 0241, dated April 5, 2006.”

Costs of Compliance

Based on the service information, we estimate that this AD will affect about five products of U.S. registry. We also estimate that it will take about 1.0 work-hour per product to comply with this AD. The average labor rate is $80 per work-hour. Required parts will cost about $3,500 per product. Where the service information lists required parts costs that are covered under warranty, we have assumed that there will be no charge for these costs. As we do not control warranty coverage for affected parties, some parties may incur costs higher than estimated here. Based on these figures, we estimate the cost of the AD on U.S. operators to be $17,900, or $3,580 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://dms.dot.gov; or in person at the Docket Management Facility between 9 a.m. and 5 p.m., Monday through Friday, except Federal holidays. The AD docket contains the NPRM, the regulatory evaluation, any comments received, and other information. The street address for the Docket Office (telephone (800) 647-5227) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-03-20 Turbomeca S.A.: Amendment 39-14931. Docket No. FAA-2006-26570; Directorate Identifier 2006-NE-39-AD.

Effective Date

(a) This airworthiness directive (AD) becomes effective March 19, 2007.

Affected ADs

(b) None.

Applicability

(c) This AD applies to Turbomeca Makila 1A and 1A1 turboshaft engines. These engines are installed on, but not limited to Eurocopter AS 332 Super Puma helicopters.

Reason

(d) European Aviation Safety Agency (EASA) AD No. 2006-0070, dated March 30, 2006, states:

The control system of the engines covered by this Airworthiness Directive includes an electrical back-up mode at 85% N1 (gas generator speed) activated on the detection of certain occurrences affecting engine control. The activation of the back-up mode is irreversible and freezes the engine at 85% N1.

An analysis of reported occurrences in service showed that the back-up mode can be activated by an electrostatic discharge or by a malfunction of the collective pitch signal. The two engines fitted on the same helicopter can therefore be frozen in this back-up position at 85% N1.

The present Airworthiness Directive therefore imposes the application of modification TU241 on the LPG board of the Makila 1A and 1A1 ECU, which reduces the aforementioned risk by changing the conditions in which the engines switch to and are maintained in the 85% NG back-up mode.

Freezing both engines in the back-up mode can lead to an inability to continue safe flight and forced landing.

Actions and Compliance

(e) Unless already done, within 15 days after the effective date of this AD, apply the modification TU 241 by replacing the LPG board of the ECU using Turbomeca Mandatory Service Bulletin No. 298 73 0241, dated April 5, 2006.

FAA AD Differences

(f) None.

Other FAA AD Provisions

(g) The following provisions also apply to this AD:

(1) Alternative Methods of Compliance (AMOCs): The Manager, Engine Certification Office, has the authority to approve AMOCs for this AD, if requested using the procedures found in 14 CFR 39.19.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Contact Christopher Spinney, Aerospace Engineer, Engine Certification Office, FAA, Engine & Propeller Directorate, 12 New England Executive Park, Burlington, MA 01803; telephone (781) 238-7175; fax (781) 238-7199; e-mail: christopher.spinney@faa.gov, for more information about this AD.

(i) Refer to MCAI EASA Airworthiness Directive 2006-0070, dated March 30, 2006, and Turbomeca Mandatory Service Bulletin No. 298 73 0241, dated April 5, 2006, for related information.

Material Incorporated by Reference

(j) You must use Turbomeca Mandatory Service Bulletin No. 298 73 0241, dated April 5, 2006, to do the actions required by this AD, unless the AD specifies otherwise.

(1) The Director of the Federal Register approved the incorporation by reference of this service information under 5 U.S.C. 552(a) and 1 CFR part 51.

(2) For service information identified in this AD, contact Turbomeca, 40220 Tarnos, France; telephone 33 05 59 74 40 00, fax 33 05 59 74 45 15.

(3) You may review copies at the National Archives and Records Administration (NARA). For information on the availability of this material at NARA, call (202) 741-6030, or go to: http://www.archives.gov/federal-register/cfr/ibr-locations.html.

Issued in Burlington, Massachusetts, on January 31, 2007.
Peter A. White,
Acting Manager, Engine and Propeller Directorate, Aircraft Certification Service.

[FR Doc. E7-2069 Filed 2-9-07; 8:45 am]

BILLING CODE 4910-13-P